DEPARTMENT OF HOUSING AND URBAN DEVELOPMENT

[Docket No. FR-4665-N-33]

Conference Call Meeting of the Manufactured Housing Consensus Committee

AGENCY: Office of the Assistant Secretary for Housing-Federal Housing Commissioner, HUD.

ACTION: Notice of upcoming meeting via conference call.

SUMMARY: This notice sets forth the schedule and proposed agenda of the upcoming meeting of the Manufactured Housing Consensus Committee (the Committee) to be held via telephone conference. The meeting is open to the general public, which may participate by following the instructions below.

DATES: The conference call meeting will be held on Wednesday, October 4, 2006, from 11 a.m. to 2 p.m. (EDT).

ADDRESSES: Information concerning the conference call can be obtained from the Department of Housing and Urban Development (HUD), Office of Manufactured Housing Programs. Interested parties can link onto HUD's Web site for Manufactured Housing for instructions concerning how to participate, and for contact information for the conference call, in the section marked “Business” “Manufactured Housing Consensus Committee Information”. The link can be found at: http://www.hud.gov/offices/hsg/sfh/mhs/mhshome.cfm. Alternately, interested parties may contact Elsie Draughn of the Office of Manufactured Housing at (202) 708-6423 (this is not a toll-free number) for conference call information.

FOR FURTHER INFORMATION CONTACT: William W. Matchneer III, Associate Deputy Assistant Secretary, Office of Regulatory Affairs and Manufactured Housing, Department of Housing and Urban Development, 451 7th Street SW., Washington, DC 20410, telephone (202) 708-6409 (this is not a toll-free number). Persons who have difficulty hearing or speaking may access this number via TTY by calling the toll-free Federal Information Relay Service at (800) 877-8339.

SUPPLEMENTARY INFORMATION: Notice of this meeting is provided in accordance with Sections 10(a) and (b) of the Federal Advisory Committee Act (5 U.S.C. App. 2) and 41 CFR 102-3.150. The Manufactured Housing Consensus Committee was established under Section 604(a)(3) of the National Manufactured Housing Construction and Safety Standards Act of 1974, as amended, 42 U.S.C. 5403(a)(3). The Committee is charged with providing recommendations to the Secretary to adopt, revise, and interpret manufactured home construction and safety standards and procedural and enforcement regulations, and with developing and recommending proposed model installation standards to the Secretary.

The purpose of the conference call meeting is to permit the Committee, at its request, to review, and to take action on further recommendations to the Secretary regarding proposed changes to Title 24, Code of Federal Regulations, Part 3280 (Manufactured Home Construction and Safety Standards (the Standards)). It is necessary to have this meeting on this date.

Tentative Agenda

A. Roll Call.

B. Welcome and Opening remarks.

C. Full Committee meeting to take actions on proposed changes to 24 CFR part 3280 (the Standards).

D. Adjournment.

Dated: September 15, 2006.
Brian D. Montgomery,
Assistant Secretary for Housing-Federal Housing Commissioner.

[FR Doc. 06-7947 Filed 9-20-06; 8:45 am]

BILLING CODE 4210-67-P